DEPARTMENT OF HEALTH AND HUMAN SERVICES

Health Resources and Services Administration

Grants for Policy-Oriented Rural Health Services Research; Grant Announcement Number HRSA-03-091

AGENCY: Health Resources and Services Administration (HRSA), HHS.

ACTION: Notice of availability of funds.

SUMMARY: The Office of Rural Health Policy (ORHP) announces that approximately $900,000 in Fiscal Year (FY) 2003 funds are available for competitive grants for policy-oriented rural health services research. Individual research projects that address rural health services will be funded under this announcement. This program is authorized by Section 301 of the Public Health Service Act. Eligibility is open to public, private, and non-profit—including faith-based and community-based—organizations. Further information is provided in the Eligibility Requirements section. Grant awards will be limited to $150,000 per grantee. It is anticipated that six (6) awards will be made. The project period is twelve months.

APPLICATION DEADLINES: Applications must be received by 4 p.m. Eastern Time on July 7, 2003. Completed applications must be sent to HRSA Grants Application Center (GAC), 901 Russell Avenue, Suite 450, Gaithersburg, MD 20879.

Applications shall be considered as meeting the deadline if they are either (1) received on or before the deadline date; or (2) postmarked on or before the deadline date and received in time for orderly processing. Applicants must obtain a legibly dated receipt from a commercial carrier or the U.S. Postal Service in lieu of a postmark. Private metered postmarks are not acceptable as proof of timely mailing. Late applications will not be reviewed. Applicants will receive a confirmation of receipt notice from the HRSA Grants Application Center.

The standard application form and general instructions for completing applications (Form PHS 398) have been approved by the Office of Management and Budget. To receive an application kit, contact the HRSA Grants Application Center toll-free at 1-877-477-2123 or write them at HRSA Grants Application Center, 901 Russell Avenue, Suite 450, Gaithersburg, MD 20879. To order an application kit for this program, you must identify the program citing the following program name, catalogue of federal domestic assistance number, and announcement number: Grant Program for Policy-Oriented Rural Health Services Research, Catalogue Of Federal Domestic Assistance Number: 93.155, Grant Announcement Number: HRSA-03-091.

On-line grant application: Applicants should note that HRSA anticipates accepting grant applications online in the last quarter of the Fiscal Year (July through September). Please refer to the HRSA grants schedule at http://www.hrsa.gov/grants.htm for more information.

Letter of intent: In order to allow the ORHP to plan for the objective review process, applicants are requested to notify the ORHP in writing of their intent to apply. This notification is not binding, but serves to inform the ORHP of anticipated numbers of applications that may be submitted. Do not fax notification. Notification is requested no later than June 11, 2003. The address for notification is: Emily Costich, Policy-Oriented Rural Health Services Research Program, Office of Rural Health Policy, Health Resources and Services Administration, Room 9A-55, 5600 Fishers Lane, Rockville, MD 20857.

FOR FURTHER INFORMATION CONTACT: Information or technical assistance regarding business, budget, or financial issues should be directed to the Division of Grants Management Operations, Health Resources and Services Administration, 5600 Fishers Lane, Room 7-89, Rockville, Maryland 20857, 301-443-2280. Specific contacts are:

Janice M. Gordon, Grants Management Officer, Division of Grants Management Operations, Telephone: 301-443-2385, E-mail: jgordon@hrsa.gov.

Darren S. Buckner, Grants Management Specialist, Division of Grants Management Operations, Telephone: 301-443-1913, E-mail: dbuckner@hrsa.gov.

Requests for technical or programmatic information on this announcement should be directed to Emily Costich, Office of Rural Health Policy, Room 9A-55, Parklawn Building, 5600 Fishers Lane, Rockville, MD 20857, (301) 443-0502, E-mail: ecostich@hrsa.gov.

SUPPLEMENTARY INFORMATION: Policy-oriented rural health services research is useful because it informs policy-makers concerned with rural health issues and it enhances knowledge about rural health and rural health services. In addition, rural health services research addresses critical concerns facing rural communities in their quest to secure adequate, affordable, high quality health services. Research findings are useful to inform a wide audience of national, state, and local decision-makers about rural health issues. Research findings have been instrumental in bridging gaps between policy and program needs.

Research Priorities: These grants are designed to provide support both for entities established in the rural health services research field as well as those entering this field. These grants are also intended to advance specific areas of rural health services research in which a limited amount of research exists. To determine what specific rural health services research is in progress in the areas of applicant interest, query the Database for Rural Health Research in Progress at: http://www.rural-health.org. This grant program will support individual research projects and excludes clinical/biomedical research and the expenditure of funds for delivery of services.

Research Areas

Applications are sought for the research areas specified below, either singly or in combination. These areas are not listed in any priority order. Applications falling outside these research areas may be returned at the discretion of the Office of Rural Health Policy as being non-responsive.

(1) Mental Health

(2) Substance Abuse

(3) Oral Health

(4) American Indian/Alaska Native/Native Hawai'ian Health Issues

(5) Integration of Native and Non-Native Health Care

(6) Special Populations—Children, Women, Homeless, Elderly

(7) Chronic Disease (e.g., Asthma and Diabetes)

(8) Bioterrorism Preparedness

(9) Frontier Issues

(10) Medicaid

(11) S-CHIP

(12) End of Life Care

(13) Continuum of Care

(14) Public Health Issues

(15) Quality of Life

(16) Uninsured

(17) Disabled/Disability

(18) Low Income Populations

(19) Quality of Care

(20) EMS (for all populations, with a special interest in children)

(21) Dual Eligibles

Geographic Coverage

Applications are sought for research products that are national in scope or generalizable to the nation. Research covering a single community, multiple communities, a single state, or a single region are not acceptable and will not be reviewed.

Criteria and Maximum Points: Applications will be evaluated on the basis of the following criteria:

• Principal Investigator and Support Personnel (25 Points) [This criterion includes evaluation of qualifications and achievements of principal investigator and support personnel, as well as multidisciplinary mix of personnel.]

• Organizational, Physical and Institutional Arrangements and Institutional Commitment to Rural Research (10 points) [This criterion includes evaluation of administrative capabilities to manage research activities and accounting capabilities to manage grant funds.]

• Project Proposal (30 points).

• Budget (5 points).

• Demonstrated Commitment and Experience in Rural Health Research, Policy or Service (15 points).

• Research Applicability to National Issues, Policy Relevance and Breadth of Scope (e.g., geographic coverage) (15 points).

Eligibility Requirements: Eligibility is open to public, private, and non-profit—including faith-based and community-based—organizations. Institutions that received a Rural Health Research Center Award covering September 1, 2000-August 31, 2004 and those with Fiscal Year 2000-2003 ORHP awards under special congressional initiatives are ineligible for this grant program. Although multiple applications may be submitted, only one award will be made to the same entity. Receipt of a grant will not disqualify the recipient from the Rural Health Research Center competition in 2004.

In addition to the above criteria, applicants must be capable of receiving the grant funds directly and must have the capability to manage the project. Applicants must be able to exercise administrative and program direction over the grant project; must have the administrative and accounting capabilities to manage the grant funds; and must have some permanent research staff at the time the application is submitted.

Matching Requirements: Applicant will not be required to match or share the project cost if an award is made.

Funding Preferences: A funding preference will be awarded to any qualified applicant that demonstrates substantial inclusion of the following in the project proposal: The applicant is, or is located within, an institution of higher learning or a department or agency within a State or local government. Institutions of higher learning are preferred because they bring academic knowledge and expertise to the application of new scientific techniques to solve the complex problems of rural communities. It is essential that research conclusions are based on the knowledgeable application of scientific research techniques that an institution of higher learning can provide. Departments or agencies within a State or local government are preferred because of their expertise in assessing the impacts of national policies on state governance and rural communities. This expertise provides their research with a unique policy-oriented perspective about rural communities and their members. Approved applications that receive a funding preference will be ranked ahead of those that receive no preference. Applications recommended for approval that do not receive a preference will be given full and equitable consideration but will not be funded until all applications recommended for approval that do receive the preference and fall within the funding line are funded. The funding line is the threshold score that determines the cut-off point for funding in a given fiscal year as determined by available funds. Applicants who are eligible for a preference and wish to receive it, must request a preference by following the instructions described in the application kit.

Special considerations: HRSA wants to fund a variety of research areas in making new awards under this announcement. Therefore, HRSA will consider the variety of research areas when selecting which applications to fund or those recommended for approval. See the list of 21 research areas in the Research Areas section above.

HRSA wants to achieve a geographic balance among awardees in making new awards under this announcement. Therefore, HRSA will consider geographic distribution when selecting which applications to fund of those recommended for approval.

Executive Order 12372

This grant program is subject to the provisions of Executive Order 12372 concerning intergovernmental review of Federal programs by appropriate health planning agencies as implemented by 45 CFR part 100. Executive Order 12372 allows States the option of setting up a system for reviewing applications from within their States for assistance under certain Federal programs. Applicants (other than Federally-recognized Indian tribal governments) should contact their State Single Point of Contact (SPOC), a list of which will be included in the application kit, as early as possible to alert them to the prospective applications and receive any necessary instructions on the State process. For proposed projects serving more than one State, the applicant is advised to contact the SPOC of each affected State.

The due date for State process recommendations is 60 days after the application deadline for new applications. The granting agency does not guarantee to “accommodate or explain” State process recommendations it receives after that date. (See part 148 of the PHS Grants Administration Manual, Intergovernmental Review of PHS Programs under Executive Order 12372, and 45 CFR part 100 for a description of the review process and requirements).

Dated: May 15, 2003.
Elizabeth M. Duke,
Administrator.

[FR Doc. 03-13916 Filed 6-3-03; 8:45 am]

BILLING CODE 4165-15-P